DEPARTMENT OF HEALTH AND HUMAN SERVICES

Centers for Disease Control and Prevention

Ryan White HIV/AIDS Treatment Extension Act of 2009: Update to the List of Potentially Life-Threatening Infectious Diseases to Which Emergency Response Employees May Be Exposed To Include Coronavirus Disease 2019 (COVID-19), the Disease Caused by Severe Acute Respiratory Syndrome Coronavirus 2 (SARS-CoV-2)

AGENCY: Centers for Disease Control and Prevention, HHS.

ACTION: Notice.

SUMMARY: The National Institute for Occupational Safety and Health (NIOSH), of the Centers for Disease Control and Prevention (CDC), within the Department of Health and Human Services (HHS), is adding coronavirus disease 2019 (COVID-19), the disease caused by severe acute respiratory syndrome coronavirus 2 (SARS-CoV-2), to the List of Potentially Life-Threatening Infectious Diseases to Which Emergency Response Employees May be Exposed. The list and companion guidelines are published by NIOSH pursuant to the Ryan White HIV/AIDS Treatment Extension Act of 2009. NIOSH encourages medical facilities to review the agency's guidelines describing the manner in which medical facilities should make determinations on whether an emergency response employee was exposed to COVID-19, the disease caused by SARS-CoV-2.

FOR FURTHER INFORMATION CONTACT: Rachel Weiss, Office of the Director, NIOSH; 1090 Tusculum Avenue, MS:C-48, Cincinnati, OH 45226; telephone (855) 818-1629 (this is a toll-free number); email NIOSHregs@cdc.gov.

SUPPLEMENTARY INFORMATION:

Statutory Authority

The Ryan White Comprehensive AIDS Resources Emergency (CARE) Act of 1990 (Pub. L. 101-381) was reauthorized in 1996, 2000, 2006, and 2009. The most recent reauthorization, the Ryan White HIV/AIDS Treatment Extension Act of 2009 (Pub. L. 111-87), amended the Public Health Service Act (PHS Act, 42 U.S.C. 201-300ii) and, pursuant to Section 2695, requires the HHS Secretary to establish the following: A list of potentially life-threatening infectious diseases, including emerging infectious diseases, to which emergency response employees (ERE) may be exposed while responding to emergencies; guidelines describing circumstances in which EREs may be exposed to these diseases, taking into account the conditions under which emergency response is provided; and guidelines describing the manner in which medical facilities should make determinations about exposures to EREs.

In a Federal Register notice published on July 14, 2010, the HHS Secretary delegated this responsibility to the CDC Director.¹ The CDC Director further assigned the responsibility to the NIOSH Director and formally re-delegated the authority to develop the list and guidelines to NIOSH on August 27, 2018.²

¹ 75 FR 40842.

² 83 FR 50379 (October 4, 2018).

Addition of COVID-19, the Disease Caused by the Virus SARS-COV-2, to the List of Potentially Life-Threatening Infectious Diseases to Which Emergency Response Employees May Be Exposed

The list of potentially life-threatening infectious diseases maintained by NIOSH is available in a Federal Register notice published on November 2, 2011 (76 FR 67736), available on the NIOSH website at https://www.cdc.gov/niosh/topics/ryanwhite/default.html. With this notice the NIOSH List of Potentially Life-Threatening Infectious Diseases to Which Emergency Response Employees May Be Exposed is updated by the addition of the following:

C. Potentially Life-Threatening Infectious Diseases: Routinely Transmitted Through Aerosolized Droplet Means

▪ COVID-19 (the disease caused by the virus SARS-CoV-2)

COVID-19, the disease caused by the virus SARS-CoV-2, is being added to the existing list. COVID-19, the disease caused by the virus SARS-CoV-2, is a potentially life-threatening emerging infectious disease that is thought to be spread primarily by respiratory droplets generated by an infectious person through events such as coughing or sneezing (https://www.cdc.gov/coronavirus/2019-ncov/index.html).

EREs may be exposed to COVID-19, the disease caused by the virus SARS-CoV-2, by a victim of an emergency who may be infected with SARS-CoV-2 while attending to, treating, assisting, or transporting the victim to a medical facility. Medical facilities should review the NIOSH guidelines describing the manner in which medical facilities should make determinations about exposures to life-threatening infectious diseases, including COVID-19, available on the NIOSH website at https://www.cdc.gov/niosh/topics/ryanwhite/default.html.

John J. Howard,
Director, National Institute for Occupational Safety and Health, Centers for Disease Control and Prevention, Department of Health and Human Services.

[FR Doc. 2020-06458 Filed 3-26-20; 8:45 am]

BILLING CODE 4163-18-P